DEPARTMENT OF TRANSPORTATION

Federal Aviation Administration

[Summary Notice No. PE-2005-7]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 14, 2005.

ADDRESSES: You may submit comments identified by DOT DMS Docket Number FAA-2001-9490 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: John Linsenmeyer (202-267-5174) or Susan Lender (202-267-8029), Office of Rulemaking (ARM-1), Federal Aviation Administration, 800 Independence Avenue, SW., Washington, DC 20591.

This notice is published pursuant to 14 CFR 11.85 and 11.91.

Issued in Washington, DC, on January 28, 2005.
Anthony F. Fazio,
Director, Office of Rulemaking.

Petitions for Exemption

Docket No.: FAA-2001-9490.

Petitioner: Alaska Airlines, Inc.

Section of 14 CFR Affected: 14 CFR 121.709(b)(3).

Description of Relief Sought: Alaska Airlines requests amendments to the conditions and limitations section of Exemption No. 6603. One amendment would rephrase “General Maintenance Manual” to read “General Procedures Manual”. Another amendment would restate certain text in paragraph 4 of the conditions and limitations section to require medevac stretcher installation training for non-certificated employees instead of non-certificated personnel. Alaska Airlines also requests an amendment that would permit flight crewmembers to remove and reinstall access panels of the smoke barrier partition in Boeing 737-200 “combi” aircraft. This amendment is requested to facilitate loading and unloading of medevac stretchers at certain remote locations where an aircraft mechanic is not available.

[FR Doc. 05-2021 Filed 2-2-05; 8:45 am]

BILLING CODE 4910-13-P